EQUAL EMPLOYMENT OPPORTUNITY COMMISSION

Sunshine Act Notice

TIME AND DATE: Tuesday, January 31, 2023, 10:00 a.m. Eastern Time.

PLACE: The EEOC building is undergoing water remediation efforts and the Agency will need to change the meeting to a virtual meeting by a live streamed videoconference, with an option for listen-only audio dial-in by telephone. The public may observe the videoconference or connect to the audio-only dial-in by following the instructions that will be posted on www.eeoc.gov. Closed captioning and ASL services will be available.

MATTERS TO BE CONSIDERED: The following item will be considered at the meeting:

Navigating Employment Discrimination in AI and Automated Systems: A New Civil Rights Frontier

Note: In accordance with the Sunshine Act, the public will be able to observe the Commission's deliberations and voting. (In addition to publishing notices on EEOC Commission meetings in the Federal Register, the Commission also provides information about Commission meetings on its website, www.eeoc.gov, and provides a recorded announcement a week in advance on future Commission meetings.)

Please telephone (202) 921-2750, or email commissionmeetingcomments@eeoc.gov at any time for information on this meeting.

CONTACT PERSON FOR MORE INFORMATION: Ray Windmiller, Executive Officer, (202) 921-2705.

Dated: January 19, 2023.
Raymond D. Windmiller,
Executive Officer, Executive Secretariat.

[FR Doc. 2023-01395 Filed 1-19-23; 4:15 pm]

BILLING CODE 6570-01-P